Title 3—

The President

Proclamation 9090 of March 14, 2014

National Poison Prevention Week, 2014

By the President of the United States of America

A Proclamation

Over the past four decades, America has seen a steep decline in childhood deaths from accidental poisonings—thanks in part to improved safety measures and increased public awareness. During National Poison Prevention Week, we do our part to remain vigilant, ask our loved ones to use common-sense precautions, and learn about the potentially life-saving action we can take in case of emergency.

While we have made great strides, unintentional poisoning still takes the lives of about 30 American children every year and sends tens of thousands to the hospital. Because the vast majority of these accidents occur in the home, it is essential for parents and caregivers to keep potentially harmful products—including cleaning supplies and medication—out of their children's reach and sight. If you ever suspect a child, family member, or anyone has been poisoned, quick action may prevent serious injury or death. You should immediately call the toll-free Poison Help Line at 1-800-222-1222.

Earlier this year, I signed the Poison Center Network Act, which supports the hotline, a poison prevention grant program, and an awareness campaign. As my Administration promotes safe practices across our country, each of us can make our homes and communities more secure. To safeguard against carbon monoxide, a deadly, colorless, odorless gas, every American should have heating systems inspected each year and install carbon monoxide alarms in their homes. And because prescription drug overdose remains the most common cause of fatal poisoning, we must properly store and dispose of medications. I encourage Americans to visit www.DEAdiversion.USDOJ.gov to read about safe prescription drug disposal and learn how to participate in the National Prescription Drug Take-Back Day on April 26. For information on preventing accidents and helping victims of poisoning, go to PoisonHelp.HRSA.gov.

To encourage Americans to learn more about the dangers of accidental poisonings and to take appropriate preventative measures, the Congress, by joint resolution approved September 26, 1961, as amended (75 Stat. 681) has authorized and requested the President to issue a proclamation designating the third week of March each year as “National Poison Prevention Week.”

NOW, THEREFORE, I, BARACK OBAMA, President of the United States of America, do hereby proclaim March 16 through March 22, 2014, as National Poison Prevention Week. I call upon all Americans to observe this week by taking actions to protect their families from hazardous household materials and misuse of prescription medicines.

IN WITNESS WHEREOF, I have hereunto set my hand this fourteenth day of March, in the year of our Lord two thousand fourteen, and of the Independence of the United States of America the two hundred and thirty-eighth.

[FR Doc. 2014-06329

Filed 3-19-14; 11:15 am]

Billing code 3295-F4